DEPARTMENT OF THE INTERIOR

Bureau of Land Management

[LLNVS00000.L51010000.ER0000.LVRWF2208330.22X; N-89655; MO# 4500164258]

Notice of Intent To Amend the Las Vegas Resource Management Plan and Prepare an Environmental Impact Statement for the Proposed Copper Rays Solar Project in Nye County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Director intends to prepare a Resource Management Plan (RMP) amendment with an associated Environmental Impact Statement (EIS) for the Copper Rays Solar Project and by this notice is announcing the beginning of the scoping period to solicit public comments and identify issues, and is providing the planning criteria for public review.

DATES: The BLM requests the public submit comments concerning the scope of the analysis, potential alternatives, and identification of relevant information and studies by December 29, 2022. To afford the BLM the opportunity to consider issues raised by commenters in the Draft RMP amendment/EIS, please ensure your comments are received prior to the close of the 45-day scoping period or 15 days after the last public meeting, whichever is later.

The BLM will conduct two public scoping meetings (virtually):

• December 6, 2022, 6-8 p.m. Pacific Time., Virtual via Zoom. Registration is required. To register in advance for this webinar, visit: https://eplanning.blm.gov/eplanning-ui/project/2019523/510

• December 7, 2022, 6-8 p.m. Pacific Time., Virtual via Zoom. Registration is required. To register in advance for this webinar, visit: https://eplanning.blm.gov/eplanning-ui/project/2019523/510

ADDRESSES: You may submit comments on issues and planning criteria related to the Copper Rays Solar Project by any of the following methods:

• Website: https://eplanning.blm.gov/eplanning-ui/project/2019523/510

• Email: BLM_NV_SND_EnergyProjects@blm.gov

• Mail: BLM, Pahrump Field Office, Attn: Copper Rays Solar Project, 4701 North Torrey Pines Drive, Las Vegas, NV 89130-2301

Documents pertinent to this proposal may be examined online at the project ePlanning page: https://eplanning.blm.gov/eplanning-ui/project/2019523/510 and at the Southern Nevada District Office.

FOR FURTHER INFORMATION CONTACT: Whitney Wirthlin, Project Manager, telephone (725) 249-3318; address 4701 North Torrey Pines Drive, Las Vegas, NV 89130-2301; email BLM_NV_SND_EnergyProjects@blm.gov. Contact Whitney Wirthlin to have your name added to our mailing list. Individuals in the United States who are deaf, deafblind, hard of hearing, or have a speech disability may dial 711 (TTY, TDD, or TeleBraille) to access telecommunications relay services for contacting Whitney Wirthlin. Individuals outside the United States should use the relay services offered within their country to make international calls to the point-of-contact in the United States.

SUPPLEMENTARY INFORMATION: This document provides notice that the BLM Nevada State Director intends to prepare an RMP amendment with an associated EIS for the Copper Rays Solar Project, announces the beginning of the scoping process, and seeks public input on issues and planning criteria. The RMP amendment is being considered to allow the BLM to evaluate the Copper Rays Solar Project, which would require amending the existing 1998 Las Vegas RMP.

The proposed project and planning area is in Nye County, southeast of the Town of Pahrump and approximately 40 miles west of Las Vegas, and encompasses approximately 5,127 acres of public lands.

On October 27, 2020, Copper Rays Solar, LLC filed an updated right-of-way application to the BLM Pahrump Field Office for the Copper Rays Solar Project (Project) requesting authorization to construct, operate, maintain, and eventually decommission a 700-megawatt photovoltaic solar electric generating facility, battery storage facilities, associated generation tie-line, and access road facilities. Copper Rays Solar, LLC submitted the initial right-of-way application for the proposed project in September 2010, thus the project is not subject to the decisions adopted by the Record of Decision for Solar Energy Development in Six Southwestern States (BLM 2012). The electricity generated would be collected at the onsite substation and conveyed to the Gamebird Substation located north of the project site via transmission line. Construction for the facilities is estimated to take approximately 72 months across multiple phases. The lands within the proposed project area were segregated, subject to valid existing rights, for a term of two years beginning October 21, 2021, with publication of the Notice of Segregation in the Federal Register.

The scope of this land use planning process does not include addressing the evaluation or designation of areas of critical environmental concern (ACEC) and the BLM is not considering ACEC nominations as part of this process.

Purpose and Need

The BLM's preliminary purpose and need for this Federal action is to respond to FLPMA right-of-way applications submitted by Copper Rays Solar, LLC under Title V of FLPMA (43 U.S.C. 1761) to construct, operate, maintain, and decommission a solar generation power plant and ancillary facilities on approximately 5,127 acres of BLM land in Nye County, Nevada, in compliance with FLPMA, BLM right-of-way regulations, the BLM NEPA Handbook (BLM 2008), U.S. Department of the Interior NEPA regulations, and other applicable federal and state laws and policies. In accordance with FLPMA, public lands are to be managed for multiple uses that consider the long-term needs of future generations for renewable and non-renewable resources. The BLM is authorized to grant rights-of-way on public lands for systems of generation, transmission, and distribution of electrical energy (Section 501(a)(4)). The preliminary purpose and need also includes an amendment to the 1998 Las Vegas RMP to address utility corridor modifications based on the project boundary location and to adjust the Visual Resource Management Class III unit that contains the proposed project to respond to the proponent's application.

Preliminary Alternatives

The Proposed Action is to approve a right-of-way to Copper Rays Solar, LLC to construct, operate, and eventually decommission the proposed solar project and associated facilities with the potential to generate 700-megawatts of alternating current energy on 5,127 acres of BLM administered lands. The Proposed Action also includes an amendment to the 1998 Las Vegas RMP in order to modify multiple utility corridors and to adjust the Visual Resource Management Class III unit that contains the proposed project.

An Energy Policy Act of 2005 Section 368 Energy Corridor, Segment # 224-225, intersects the western portion of the project area. A Southern Nevada District Utility Corridor, established by the RMP, intersects the southwest corner of the project area. Per the BLM's Land Use Planning Handbook (H-1601-1 Section VII.B), in order for the project to be consistent with the RMP, a plan amendment to modify both utility corridors outside of the Copper Rays Solar Project area will be required.

The Visual Resource Management Class for the project area includes Class III, which requires a RMP amendment to change the Class III area to Class IV in order for the project to be consistent with the RMP, per the BLM Land Use Planning Handbook (H-1601-1 Section VII.B).

Additional action alternatives have not been identified to date but would be developed by taking into consideration comments and input submitted during the application evaluation determination process and scoping.

Under the No Action Alternative, BLM would not issue a right-of-way grant for the solar project and associated facilities. The proposed Project would not be constructed, and existing land uses in the project area would continue. Additionally, the BLM would not undertake a RMP amendment to adjust utility corridors and modify the Visual Resource Management Class.

The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified preliminary issues for this planning effort's analysis. The planning criteria are available for public review and comment at the ePlanning website (see ADDRESSES).

Summary of Expected Impacts

The analysis in the EIS will be focused on the proposed solar project and associated facilities, including battery storage and transmission line construction. The BLM evaluated the proposed Project application per the 43 CFR 2800 application evaluation determination process. Through this process, the BLM completed public outreach and Agency and Indian Tribal Nations coordination specific to the proposed Project. From the input received, the expected impacts from construction, operation, and eventual decommissioning of the solar project, associated facilities, and the RMP amendment could include:

• Potential desert tortoise habitat disturbance and changes in genetic connectivity habitat from construction of the proposed facilities;

• Potential effects to cultural resources in the project area from construction activities;

• Potential modifications to the visual character of the area;

• Potential effects to basin groundwater resources from the proposed construction water needs for the project;

• Potential socioeconomic impacts from the proposed project to local communities;

• Potential air quality impacts from proposed construction activities;

• Potential impacts to vegetation species as a result of construction, operations, and decommissioning of the project and associated facilities;

• Potential effects to the recreational opportunities and public use of the proposed project area due to construction and operations of the solar facility; and

• Potential cumulative effects with other reasonably foreseeable actions in the area.

Preliminary issues for the project have been identified by the BLM, other Federal agencies, the State, local agencies, Tribes, and the public during the application evaluation process. The following may be impacted by the proposed project and will be considered for detailed analysis in the EIS: threatened and endangered species, biological resources, vegetation resources, visual resources, cultural resources, air quality, climate change, recreation, socioeconomics, water resources, and cumulative effects from reasonably foreseeable actions in the area. Habitat for the federally listed desert tortoise is in this project area.

Anticipated Permits and Authorizations

Along with the right-of-way grant issued by the BLM, Copper Rays Solar, LLC anticipates needing the following authorizations and permits for the proposed project: Biological Opinion and Incidental Take Permit from the U.S. Fish and Wildlife Service; Consultation under Section 106 of the National Historic Preservation Act with the Advisory Council on Historic Preservation and Nevada State Historic Preservation Office; Section 404 Permit from the U.S. Army Corps of Engineers; Wildlife Special Purpose permit from the Nevada Department of Wildlife; Nevada Division of Environmental Protection Stormwater and Groundwater Discharge permits and Temporary in Waterways Work permit; Nevada Public Utilities Commission Permit to Construct; Nevada Division of Water Resources water rights modification permits; Nevada State Fire Marshall Hazardous Materials Storage permit; Nye County Special Use Permit; and other Nye County permits, as necessary. Further details on these permitting requirements may be found in the Plan of Development for the Copper Rays Solar Project.

Schedule for the Decision-Making Process

The BLM will provide additional opportunities for public participation consistent with the NEPA and land use planning processes, including a 90-day comment period on the Draft RMP Amendment/EIS and concurrent 30-day public protest period and 60-day Governor's consistency review on the Proposed RMP Amendment. The Draft RMP Amendment/EIS is anticipated to be available for public review Spring 2023 and the Proposed RMP Amendment is anticipated to be available for public protest in Fall 2023 with an Approved RMP Amendment and Record of Decision in Spring 2024.

Public Scoping Process

This notice of intent initiates the scoping period and public review of the planning criteria, which guide the development and analysis of the Draft RMP Amendment/EIS.

The BLM will be holding two virtual scoping meetings (see DATES and ADDRESSES sections earlier). The specific date(s) and location(s) of any additional scoping meetings will be announced at least 15 days in advance through the project ePlanning web page: https://eplanning.blm.gov/eplanning-ui/project/2019523/510.

The purpose of the public scoping process is to determine relevant issues that will influence the scope of the environmental analysis, including alternatives and mitigation measures, and to guide the process for developing the EIS. Federal, State, and local agencies and Tribes, along with other stakeholders that may be interested or affected by the BLM's decision on this project, are invited to participate in the scoping process and, if eligible, may request or be requested by the BLM to participate as a cooperating agency. The BLM encourages comments concerning the proposed Cooper Rays Solar Project and RMP amendment, possible measures to minimize and/or avoid adverse environmental impacts, and any other information relevant to the Proposed Action.

The BLM also requests assistance with identifying potential alternatives to the Proposed Action. As alternatives should resolve an issue with the Proposed Action, please indicate the purpose of the suggested alternative. In addition, the BLM requests the identification of potential issues that should be analyzed. Issues should be a result of the Proposed Action or Alternatives; therefore, please identify the activity along with the potential issues.

Lead and Cooperating Agencies

The BLM Pahrump Field Office is the lead agency for this EIS and RMP amendment. The BLM has initially invited 27 Agencies and 15 Indian Tribal Nations to be cooperating agencies to participate in the environmental analysis of the Project.

Of those invited, 11 agencies have accepted cooperating agency status: U.S. Fish and Wildlife Service Ecological Services Program, U.S. Fish and Wildlife Migratory Bird Program; U.S. Environmental Protection Agency Region 9; Clark County Department of Aviation; Clark County Department of Environment and Sustainability; Nye County; Nevada Department of Wildlife; Nevada Division of Forestry; Nevada Department of Conservation and Natural Resources, Off-Highway Vehicles Program; Nevada Division of Emergency Management; and Nevada Department of Public Safety. Additional agencies and organizations may be identified as potential cooperating agencies to participate in the environmental analysis of the Project.

Responsible Official

The Nevada State Director is the deciding official for this planning effort and proposed Copper Rays Solar Project.

Nature of Decision To Be Made

The nature of the decision to be made will be the State Director's selection of land use planning decisions for managing BLM-administered lands under the principles of multiple use and sustained yield in a manner that best addresses the purpose and need.

The BLM will decide whether to grant, grant with conditions, or deny the right of way application. Pursuant to 43 CFR 2805.10, if the BLM issues right-of-way grant(s), the BLM decision maker may include terms, conditions, and stipulations determined to be in the public interest.

Interdisciplinary Team

The BLM will use an interdisciplinary approach to develop the EIS/RMP amendment in order to consider the variety of resource issues and concerns identified. Specialists with expertise in the following disciplines will be involved in this process: air quality, archaeology, botany, climate change (greenhouse gases), environmental justice, fire and fuels, geology/mineral resources, hazardous materials, hydrology, invasive/non-native species, lands and realty, National Conservation Lands, National Trails, public health and safety, recreation/transportation, socioeconomics, soils, visual resources, and wildlife.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan amendment will assist the BLM in identifying and evaluating impacts to such resources.

The BLM will consult with Tribal Nations on a government-to-government basis in accordance with Executive Order 13175, BLM MS 1780, and other policies. Tribal concerns, including impacts on Indian trust assets and potential impacts to cultural resources, will be given due consideration. Federal, State, and local agencies, along with Tribal Nations, and other stakeholders that may be interested in or affected by the proposed action that the BLM is evaluating, are invited to participate in the scoping process and, if eligible, may request or be requested by the BLM to participate in the development of the environmental analysis as a cooperating agency. The BLM intends to hold a series of government-to-government consultation meetings. The BLM will send invites to potentially affected Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, and 2800)

Jon Raby,
State Director.

[FR Doc. 2022-24623 Filed 11-10-22; 8:45 am]

BILLING CODE 4310-HC-P